DEPARTMENT OF DEFENSE

Department of the Army

Board of Visitors, United States Military Academy

AGENCY: United States Military Academy, DoD.

ACTION: Notice of open meeting.

SUMMARY: In accordance with section 10(a)(2) of the Federal Advisory Committee Act (Pub. L. 92-463), announcement is made of the following committee meeting:

Name of Committee: Board of Visitors, United States Military Academy.

Date: November 18, 2002.

Place of Meeting: Superintendent's Conference Room, United States Military Academy (USMA) Taylor Hall, West Point, NY 10996.

Start Time of Meeting: Approximately 3:15 p.m.

FOR FURTHER INFORMATION CONTACT: Lieutenant Colonel Edward C. Clarke, United States Military Academy, West Point, NY 10996-5000, (845) 938-4200.

SUPPLEMENTARY INFORMATION: Proposed Agenda: Fall Annual Meeting of the Board of Visitors. Review of the Academic, Military, Moral, Ethical, and the Physical Programs at the USMA. Approval of the 2002 Annual Report to the President. All proceedings are open.

Edward C. Clarke,
Lieutenant Colonel, US Army, Executive Secretary, USMA Board of Visitors.

[FR Doc. 02-25180 Filed 10-2-02; 8:45 am]

BILLING CODE 3710-08-M